DEPARTMENT OF AGRICULTURE

National Institute of Food and Agriculture

Notice of Intent To Request a New Information Collection

AGENCY: National Institute of Food and Agriculture, USDA.

ACTION: Notice and request for comments.

SUMMARY: In accordance with the Paperwork Reduction Act of 1995 and Office of Management and Budget (OMB) regulations), this notice announces the National Institute of Food and Agriculture's (NIFA) intention to request approval for a new information collection titled Small Business Innovation Research (SBIR) Funding Agreement Certifications.

DATES: Written comments on this notice must be received by December 5, 2022 to be assured of consideration. Comments received after that date will be considered to the extent practicable.

ADDRESSES: You may submit comments through the Federal eRulemaking Portal: http://www.regulations.gov. Follow the instructions for submitting comments.

Instructions: All comments received will be posted without change to http://www.regulations.gov, including any personal information provided.

FOR FURTHER INFORMATION CONTACT: Robert Martin, 202-445-5388, Robert.martin3@usda.gov.

SUPPLEMENTARY INFORMATION:

Title of Collection: Small Business Innovation Research (SBIR) Funding Agreement Certifications.

Type of Request: Notice of intent to request a new information collection.

NIFA is requesting approval for a new information collection entitled “Small Business Innovation Research (SBIR) Funding Agreement Certifications.” This information collection includes two forms: a “Funding Agreement Certification” and a “Certification for SBIR Applicants that are Majority-Owned by Multiple Venture Capital Operating Companies, Hedge Fund or Private Equity Firms.” NIFA asks all recipients of SBIR grants to submit a Funding Agreement Certification form after NIFA has provided the grantee notification of the award, as well as any other time set forth in the funding agreement. For example, the small business concern (SBC) may be required to update the form to assure continued eligibility and compliance, when changes in the SBC apply. NIFA also asks SBIR applicants that are majority-owned by multiple venture capital operating companies, hedge funds, or private equity firms to submit an additional certification form prior to submitting an application. These certification statements are for the purpose of determining the eligibility of the small business concern for an SBIR award. NIFA is proposing implementation of these forms to match the guidance provided in the SBA SBIR/STTR Policy Directive effective October 1, 2020.

Abstract: The SBIR program at the U.S. Department of Agriculture (USDA) makes competitively awarded grants to qualified small businesses to support high quality, advanced concepts research related to important scientific problems and opportunities in agriculture that could lead to significant public benefit if successful.

The objectives of the SBIR Program are to: stimulate technological innovations in the private sector; strengthen the role of small businesses in meeting Federal research and development needs; increase private sector commercialization of innovations derived from USDA-supported research and development efforts; and foster and encourage participation by women-owned and socially and economically disadvantaged small business firms in technological innovations. The USDA SBIR program is carried out in three separate phases:

1. Phase I awards to determine, insofar as possible, the scientific and technical merit and feasibility of ideas that appear to have commercial potential.

2. Phase II awards to further develop work from Phase I that meets particular program needs and exhibits potential for commercial application.

3. Phase III awards where commercial applications of SBIR-funded R(Research)/R&D (Research and Development) are funded by non-Federal sources of capital; or where products, services or further research intended for use by the Federal Government are funded by follow-on non-SBIR Federal Funding Agreements. The USDA SBIR Program is administered by the National Institute of Food and Agriculture (NIFA) of the USDA. NIFA exercises overall oversight for the policies and procedures governing SBIR grants awarded to the U.S. small business community, representing approximately 2.5% to 2.8% of the USDA extramural R/R&D budget. This represents approximately $201M in Phase II grants awarded to the U.S. small business community from 1994 to 2014. In 1982, the Small Business Innovation Research (SBIR) Grants Program (Pub. L. 97-219, 96 stat. 217), 15 U.S.C. 638, was authorized, and in 2016, The National Defense Authorization Act for Fiscal Year 2017 (Pub. L. 114-328), enacted on December 23, 2016, reauthorized the SBIR and STTR programs through September 30, 2022.

The Funding Agreement Certification form is used by USDA to ensure Small Business Concerns meet specific eligibility requirements for a Small Business Innovation and Research award. The form asks applicants to certify a series of ten statements in order to ensure the grantee is complying with specific program requirements during the life of the funding agreement. If the SBC is majority-owned by venture capital companies, hedge funds, or private equity firms they will be required to fill out an eight-question form in addition to the Funding Agreement Certification. The small business concern may be required to update the Funding Agreement Certification form to assure continued eligibility and compliance when changes in the SBC apply.

Estimate of Burden: The forms in this collection are required to be completed for Phase I and Phase II awardees and updated when there is a change in the business regarding the contents of the certification form.

Estimated Number of Respondents: 110.

Estimated Number of Responses per Respondent: 1.

Estimated Burden per Response: 1 hour.

Estimated Total Burden on Respondents: 110 hours.

Comments: Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Obtaining a Copy of the Information Collection: A copy of the information collection and related instructions may be obtained free of charge by contacting Robert Martin as directed above.

Done at Washington, DC, this day of August 09, 2022.
Dionne Toombs,
Acting Director, National Institute of Food and Agriculture, U.S. Department of Agriculture.

[FR Doc. 2022-21558 Filed 10-4-22; 8:45 am]

BILLING CODE 3410-22-P